DEPARTMENT OF LABOR

[Funding Opportunity No: 17-805]

Veterans' Employment and Training Service; Fiscal Year (FY) 2007 Stand Down Grant Requests

AGENCY: Veterans' Employment and Training Service (VETS), U.S. Department of Labor (USDOL).

ACTION: Initial announcement of available FY 2007 funds under the Homeless Veterans' Reintegration Program to Support Local Stand Down Events.

SUMMARY: The Veterans' Employment and Training Service (VETS) continues to support local Stand Down events that assist homeless veterans and is now accepting applications for Stand Down grant awards. A Stand Down is an event held in a local community where homeless veterans are provided with a wide variety of social services. Under this FY 2007 announcement, VETS anticipates that up to $300,000 will be available for grant awards up to a maximum of $10,000 per event. However, if the event is held for one (1) day, the maximum amount is $7,000. VETS expects to award approximately thirty-seven (37) grants. Applications for Stand Down funds will be accepted from State Workforce Agencies and State and local Workforce Investment Boards, Veterans Service Organizations (VSO), local public agencies, and non-profit organizations, including community and faith-based organizations. VETS is not authorized to award these grant funds to organizations that are registered with Internal Revenue Service (IRS) as a 501 (c) (4) organization.

DATES: All Stand Down grant requests must be received by the appropriate State Director for Veterans' Employment and Training (DVET) who serves as the Grant Officer Technical Representative (GOTR) no later than 60 days prior to the event and postmarked no later than June 30, 2007, for events that occur on or prior to November 30, 2007. Events occurring after November 30, 2007, application will be accepted, and awarded as next year's federal appropriations or continuing resolution funding becomes available.

ADDRESSES: Applications for Stand Down grant funding are to be submitted to the appropriate State DVET/GOTR. Address and contact information for each State DVET/GOTR can be found at: http://www.dol.gov/vets/aboutvets/contacts/main.htm.

SUPPLEMENTARY INFORMATION:

I. Funding Opportunity Description

Stand Down is a military term referring to an opportunity to achieve a brief respite from combat. Troops would assemble in a base camp to receive new clothing, hot food, and a relative degree of safety before returning to the front. Today more than 160 organizations across the country partner with local businesses, government agencies, and community- and faith-based service providers to hold Stand Down events for homeless veterans and their families in the local community.

Each year, the Assistant Secretary for Veterans' Employment and Training awards Homeless Veterans' Reintegration Program (HVRP) grants to programs that enhance employment and training opportunities and/or promote self-sufficiency for homeless veterans. Residual HVRP funds can be awarded as grants to organizations sponsoring Stand Down events for homeless veterans.

The critical services provided at a Stand Down are often the catalyst that enables homeless veterans to reenter mainstream society. Some of the services available at these events include temporary shelter, showers, haircuts, meals, clothing, hygiene kits, medical examinations, immunizations, legal advice, State identification cards, veterans benefit information, training program information, employment services, and referral to other supportive services.

Stand Down grant funds must be used to enhance employment and training opportunities or to promote self-sufficiency for homeless veterans. The funds may be used to support activities such as:

• The purchase of food, bottled water, clothing, sleeping bags and hygiene care kits;

• Rental of facilities and/or tents;

• Payment for special one-time electricity costs, equipment rentals, advertising, event posters, portable toilets, janitorial/kitchen supplies, and communications/internet access;

• The hiring of security personnel;

• Transportation of homeless veterans to and from Stand Down events; and

• Other items and services as appropriate.

Stand Down grant funds may not be used to purchase special monogrammed tee shirts, pen sets, specialty hats (unless for cold weather use), military and veteran type patches, and memento gifts for staff members/visitors/volunteers.

II. Award Information

The maximum amount that can be awarded to support a local Stand Down event is $10,000 per year, per event. If the event is held for one (1) day, the maximum amount that can be awarded is $7,000.

III. Eligibility Information

1. Eligible Applicants

Eligible applicants will generally fall into one of the following categories: State and local Workforce Boards, Veteran Service Organizations, local public agencies, and non-profit organizations including community and faith-based organizations. Organizations registered with the Internal Revenue Service as a 501(c)(4) organization are not eligible.

2. Cost Sharing or Matching

Cost Sharing and matching funds are not required. However, we do encourage grantees to maximize the resources available to the Stand Down event and its participants.

3. Other Eligibility Requirements

Applicant Registration Requirements

A. All applicants for Federal funding are required to include a Dun and Bradstreet Number (DUNS) with their application. Applicants can obtain a DUNS number through the following Web site: http://www.dunandbradstreet.com/ or by phone at 1-866-705-5711.

B. After receiving a DUNS number, all grant applicants must also register as a vendor with the Central Contractor Registration (CCR) through the following Web site: http://www.ccr.gov or by phone at 1-888-227-2423. CCR registration should become active within 24 hours of completion. If grant applicants have questions regarding registration, please contact the CCR Assistance Center at 1-888-227-2423.

After registration, grant applicants will receive a confirmation number. Grantee listed Point of Contact will receive a Trader Partnership Identification Number (TPIN) via mail. The TPIN is, and should remain, a confidential password.

IV. Application Content

All applications for Stand Down funding must include:

1. Applicant letter requesting Stand Down funds (original signed in blue ink);

2. Application for Federal Assistance, Standard Form (SF) 424 (original signed in blue ink);

3. SF-424A, Budget Information—Non-Construction Programs; SF-424 and SF-424A forms can be downloaded from the following Web site: http://www.grants.gov

4. Budget Narrative describing each planned expenditure listed on the SF 424A. The description should provide the methodology used in determining the cost estimates such as quantity and if the item will be purchased or rented. Will the items be utilized by the participant or assist the volunteer(s) at the event?;

5. Demonstrate and document Stand Down Activities and develop a timeline for completion of activities. For Stand Down events that occur on or after July 1st, grant applicants must demonstrate and document planning activities prior to the end of the Fiscal Year (September 30th);

6. Original signed Assurances and Certifications Signature Page;

7. Complete the Survey on Ensuring Equal Opportunity for Applicants (see Appendix D);

8. A copy of the Central Contractor Registration (CCR) confirmation number. Please do not send the Trader Partnership Identification Number (TPIN) (see Section III.3.A.);

9. Letters of support, particularly from the local One-Stop Career Centers and/or Disabled Veterans' Outreach Program Specialists (DVOPs) and Local Veterans' Employment Representative (LVER) staff, the Department of Veterans Affairs, Department of Housing and Urban Development (HUD) or the local Continuum of Care (COC), Veterans' Service Organizations (VSO), State and local government agencies, local businesses, local non-profit organizations including community-based and faith-based organizations, etc; when applicable; and

10. A copy of the Internal Revenue Service documentation indicating approval of non-profit status (for example: 501(c)(3), 501(c)(19), etc.) as required to verify eligibility when claiming non-profit status.

V. Award Administration Information

Stand Down funding is a non-competitive grant awarded on a first-come, first-served basis until available residual funding is exhausted. Funding is subject to approval by the Grant Officer. If approved, the grantee will receive a grant award document and financial form to complete in order for USDOL Office of Financial Management to set-up an account in the Health and Human Services, Payment Management System (HHS/PMS) to electronically draw down funds.

If awarded funds, the grantee must submit the completed HHS/PMS financial forms directly to the USDOL, Division of Financial Management Operations in order to electronically draw down funds. The financial forms should be sent via FedEx, UPS, or other non-U.S. Postal Service provider to avoid processing delays. If grantee has previously set-up an electronic HHS/PMS account, additional awarded funds will be added into that existing bank account unless otherwise notified in writing. Questions or problems relating to the HHS/PMS paperwork or processes should be referred to the USDOL Office of Financial Management at (202) 693-4479.

Upon receipt of grant award financial documents, HHS/PMS will forward a packet of instructions to the grantee on how to set up a payment account. After setting up the account, the grantee will be able to draw down funds to reimburse approved expenses already incurred and to cover approved expenses that will be paid within three (3) days of the draw down. Funds requested for draw down through the HHS/PMS are directly deposited into the account within 24 hours of the request.

Since grantees may draw funds down in more than one quarter, up to and after the date of the Stand Down event, grantees are required to complete a PSC Federal Cash Transaction Report (PS 272) no later than 45 days after the end of each quarter in which grantees receive all or part of their grant award (February 14th, May 15th, August 14th, and November 14th). Instructions for completing this requirement are provided in the HHS/PMS information packet. Grantees are to print hard copies of all PSC 272s submitted to provide with an Activity and Expenditure Report that will be submitted after the Stand Down event.

VI. Required Post-Event Reporting

No later than 45 calendar days after the Stand Down event, grantees must submit the Stand Down Activity and Expenditure Report to the appropriate DVET/GOTR and to the USDOL Procurement Services. If grantees experience any delay in submitting this report, they should immediately contact their DVET/GOTR and provide a justification to request an extension.

The following documents will be needed to complete the Stand Down Activity and Expenditure Report:

• An original signed invoice or list of all items purchased with grant funding;

• Original sales receipts of items purchased with USDOL-VETS funding;

• Comparison of planned activities and expenditures versus actual activities and expenditures;

• SF 269A, Financial Status Report (short form) (available for download at http://www.grants.gov;

• The Stand Down After Action Report (see Appendix E), which can also be provided by the DVET/GOTR; and

• Copies of all PSC 272s that were submitted to HHS/PMS.

To prevent processing delays and/or the need to recoup over payments, grantees are to submit the Stand Down Activity and Expenditure Report to the appropriate DVET/GOTR prior to sending the originals to Procurement Services. The DVET/GOTR will review the report to ensure it is complete and accurate and that all expenditures were appropriate and allowable.

After the DVET/GOTR reviews the Stand Down Activity and Expenditure Report for completeness and accuracy, grantees are to distribute copies of the Activity and Expenditure Report as follows:

• The original SF 269A, signed invoice or list of expenditures and the Stand Down After Action Report is mailed to: U.S. Department of Labor, Procurement Services Center, Room S-4307, Attn: Cassandra Mitchell, 200 Constitution Avenue, NW., Washington, DC 20210.

• Original sales receipts of items purchased with USDOL-VETS funding, a copy of the SF 269A, signed invoice or list of expenditures, comparison of actual versus planned activities and expenditures, Stand Down After Action Report, and copies of all PSC 272s sent to HHS/PMS is to be submitted to the appropriate DVET/GOTR.

If the DVET/GOTR does not recommend approval of a particular expenditure, he/she will notify the grantee in writing with an explanation for the disapproval and instruct grantee to electronically return the funds within 15 calendar days to the HHS/PMS account if already drawn down. All FY 2007 Stand Down awarded funds must be electronically drawn down by no later than November 30, 2007. If Stand Down funds are not electronically drawn down by the grantee within 90 days following the above stated due date, the USDOL may reallocate these funds for other purposes accordingly.

Any grantee who fails to comply with guidance set forth in the Stand Down Special Grant Provisions and reporting requirements will not be considered favorably from any future funding from U.S. Department of Labor Veterans' Employment and Training Service.

VII. Agency Contacts

Questions regarding this announcement should be directed to the Director for Veterans' Employment and Training/GOTR in your State. Contact information for each DVET/GOTR is located in the VETS Staff Directory at the following webpage: http://www.dol.gov/vets/aboutvets/contacts/main.htm or access the directory from the agency Web site at http://www.dol.gov/vets.

VIII. Other Information

Current competitive HVRP grantees are not eligible for a separate non-competitive Stand Down grant award as described in this announcement. Current competitive HVRP grantees are authorized to utilize existing funds for Stand Down purposes.

Appendices: (Located on U.S. Department of Labor, Veterans' Employment and Training Service Webpage http://www.dol.gov/vets follow link for 2007 Stand Down Grants and Required Forms listed under announcements.)

Appendix A: Application for Federal Assistance SF-424

Appendix B: Budget Information Sheet SF-424A

Appendix C: Certifications and Assurances Signature Page

Appendix D: Survey on Ensuring Equal Opportunity for Applicants

Appendix E: Stand Down After Action Report

Signed at Washington, DC, this 23 day of May, 2007.
Cassandra R. Mitchell
Grant Officer.

[FR Doc. E7-10258 Filed 5-29-07; 8:45 am]

BILLING CODE 4510-79-P